DEPARTMENT OF AGRICULTURE

Forest Service

36 CFR Part 219

RIN 0596-AAB86

National Forest System Land and Resource Management Planning; Diversity Options Workshop

AGENCY: Forest Service, USDA.

ACTION: Proposed rule; notice of workshop.

SUMMARY: Elsewhere in this part of today's Federal Register, the Forest Service is publishing a proposed rule to revise the land and resource management planning process for National Forest System lands. As part of that rule, the agency is proposing two options that would fulfill the statutory requirements of the National Forest Management Act that forest plans provide for the diversity of plant and animal communities consistent with the multiple-use objectives of the land and resource management plan. To provide further comment on the diversity options presented in the proposed rule, the agency will hold a Diversity Options Workshop, scheduled for February 18-20, 2003, in the general Washington, DC area. The agency will invite up to 80 persons who represent a variety of interests, expertise, backgrounds, and perspectives to participate in the workshop. The agency hereby requests nominations of persons to invite to the workshop.

DATES: The workshop is scheduled for February 18-20, 2003, in the general Washington, DC area. The workshop begins the evening of February 18, 2003, and an evening session may also be held on February 19, 2003. The workshop is scheduled to adjourn at 3:30 p.m. on February 20, 2003. Nominations for the workshop must be received no later than January 6, 2003.

ADDRESSES: The agency has contracted with the Meridian Institute to plan, organize, and facilitate the workshop. It is strongly suggested that nominations be submitted electronically via the Internet at www.merid.org/diversityoptions. Those wishing to submit nominations by other means must contact the Meridian Institute at (202) 354-6450 for further instructions.

FOR FURTHER INFORMATION CONTACT: Questions regarding the workshop should be directed to Shawn Walker, Meridian Institute, (202) 354-6450 or at shawnwalker@merid.org. Questions regarding the proposed rule should be directed to Jody Sutton, Content Analysis Team Program Coordinator, Forest Service at (801) 517-1023.

SUPPLEMENTARY INFORMATION: The workshop will address scientifically sound and practical forest planning approaches to implementing the statutory requirements of the National Forest Management Act (NFMA) with respect to diversity as well as the advantages and disadvantages of the two proposed diversity options or variations of these options. The two proposed diversity options are presented in the proposed land and resource management planning rule published elsewhere in this part of today's Federal Register. The discussion and information generated by workshop participants will aid the Forest Service in determining how to meet the diversity requirements of the NFMA. The workshop is designed for participants to remain on site to encourage informal discussions as well as attendance at the planned plenary and breakout sessions.

Selection Process

Workshop participants will be selected and invited through an open nomination process. Both self-nominations and nominations of others will be accepted from anyone wishing to submit a nomination based on the criteria described below.

• Balanced representation of interests among the selected participants to include highly qualified individuals from the variety of scientific disciplines relevant to a discussion of the diversity options; and

• Balanced representation of individuals from a diversity of geographic regions and circumstances who have practical experience in the land and resource management planning process and plan implementation.

To assist in evaluating the nomination process the following information on nominees would be helpful:

1. Background/Expertise

a. Scientific or technical expertise

b. Legal or policy experience with diversity of plant and animal communities

c. Direct experience with the land and resource planning process and plan implementation

2. Relevant Affiliations

a. Government

b. Industry Sectors

c. Non-Governmental Organizations

d. Other

3. Geographic Location of Relevant Work Experience: Local, State, Regional (eastern U.S., western U.S., etc.), or National

4. Scope of Work: Local, State, Regional, or National

Conclusion

The agency invites nomination of qualified persons to attend the Diversity Options Workshop described in this notice. Both self-nominations and nominations of others for the workshop will be accepted and will be reviewed using the preceding participant selection criteria.

Dated: November 27, 2002.
Sally D. Collins,
Associate Chief.

[FR Doc. 02-30682 Filed 12-5-02; 8:45 am]

BILLING CODE 3410-11-P